DEPARTMENT OF TRANSPORTATION

Federal Aviation Administration

14 CFR Part 71

[Docket No. FAA-2023-2365; Airspace Docket No. 23-ACE-7]

RIN 2120-AA66

Amendment of United States RNAV Route T-251 in the Vicinity of Bowling Green, MO

AGENCY: Federal Aviation Administration (FAA), DOT.

ACTION: Final rule.

SUMMARY: This action amends the United States (U.S.) Area Navigation (RNAV) route T-251 Part 71 description. The FAA is changing the type of point for the RIVRS, IL, route point from being listed as a “Fix” to a “Waypoint (WP)” to match the FAA National Airspace System Resource (NASR) database information. This is an editorial amendment only and does not alter the alignment, dimensions, or operating requirements of T-251.

DATES: Effective date 0901 UTC, March 21, 2024. The Director of the Federal Register approves this incorporation by reference action under 1 CFR part 51, subject to the annual revision of FAA Order JO 7400.11 and publication of conforming amendments.

ADDRESSES: A copy of this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

On June 15, 2023, the FAA decommissioned the Quincy, IL, Very High Frequency Omnidirectional Range (VOR) as part of the VOR Minimum Operational Network (MON) Program. As a result of the Quincy VOR being decommissioned, the RIVRS, IL, Fix was changed in the FAA NASR database to a WP and on all associated Instrument Flight Rules (IFR) enroute, Visual Flight Rules (VFR) sectional, and controller charts. The Part 71 editorial amendment of the T-251 description was overlooked at that time and the RIVRS, IL, route point is still reflected as a Fix. The correct type of point for the RIVRS, IL, route point is WP. This rule corrects that difference by changing the type of point for the RIVRS, IL, route point listed in the T-251 route description from “Fix” to “WP.”

Incorporation by Reference

United States Area Navigation Routes (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending U.S. RNAV route T-251 to change the type of point of the RIVRS, IL, route point from “Fix” to “WP.” This change to the T-251 description will match the FAA NASR database information and charted depiction of the point.

Since this action merely involves an editorial amendment in the Part 71 description of U.S. RNAV route T-251, and does not involve a change in the alignment, dimensions, or operating requirements of that route, notice and public procedure under 5 U.S.C. 553(b) are unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this editorial amendment action of U.S. RNAV route T-251, to reflect the RIVRS, IL, route point as a WP and match the FAA NASR database information and charts, qualifies for categorical exclusion under the National Environmental Policy Act (42 U.S.C. 4321 et seq.) and its implementing regulations at 40 CFR part 1500, and in accordance with FAA Order 1050.1F, Environmental Impacts: Policies and Procedures, paragraph 5-6.5a, which categorically excludes from full environmental impact review rulemaking actions that designate or modify classes of airspace areas, airways, routes, and reporting points; and paragraph 5-6.5k, which categorically excludes from further environmental impact review publication of existing air traffic control procedures that do not essentially change existing tracks, create new tracks, change altitudes, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6011 United States Area Navigation Routes.

* * * * *

T-251 FRNIA, MO to KOETZ, WI [Amended]
FRNIA, MO | WP | (Lat. 36°33′18.69″ N, long. 089°54′40.47″ W)
Farmington, MO (FAM) | VORTAC | (Lat. 37°40′24.46″ N, long. 090°14′02.62″ W)
Foristell, MO (FTZ) | VORTAC | (Lat. 38°41′39.60″ N, long. 090°58′16.57″ W)
RIVRS, IL | WP | (Lat. 39°25′21.41″ N, long. 090°55′56.70″ W)
KAYUU, MO | WP | (Lat. 40°19′05.81″ N, long. 091°41′36.59″ W)
MERKR, IA | WP | (Lat. 40°49′16.02″ N, long. 092°08′26.88″ W)
AGENS, IA | FIX | (Lat. 41°01′43.78″ N, long. 092°20′50.25″ W)
PICRA, IA | WP | (Lat. 41°35′00.72″ N, long. 092°32′34.29″ W)
HAVOS, IA | WP | (Lat. 42°04′16.32″ N, long. 092°28′29.38″ W)
Waterloo, IA (ALO) | VOR/DME | (Lat. 42°33′23.39″ N, long. 092°23′56.13″ W)
ZEZDU, IA | FIX | (Lat. 42°49′29.02″ N, long. 092°04′58.05″ W)
FALAR, MN | FIX | (Lat. 43°34′26.04″ N, long. 091°30′18.32″ W)
KOETZ, WI | WP | (Lat. 44°13′15.00″ N, long. 091°28′14.00″ W)

* * * * *

Issued in Washington, DC, on January 2, 2024.
Frank Lias,
Manager, Rules and Regulations Group.

[FR Doc. 2024-00072 Filed 1-10-24; 8:45 am]

BILLING CODE 4910-13-P